DEPARTMENT OF COMMERCE

International Trade Administration

(A-821-802)

Extension of Time Limit for Sunset Review of the Agreement Suspending the Antidumping Investigation on Uranium from the Russian Federation

AGENCY: Import Administration, International Trade Administration, U.S. Department of Commerce.

EFFECTIVE DATE: January 24, 2006.

FOR FURTHER INFORMATION CONTACT: Sally C. Gannon or Aishe Allen, Import Administration, International Trade Administration, U.S. Department of Commerce. 14th Street and Constitution Avenue, NW., Washington, DC 20230; (202) 482-0162 or (202) 482-0172, respectively.

Extension of Time Limit for Sunset Review:

On November 10, 2005, the Department of Commerce (“the Department”) extended the time limit for the sunset review of the agreement suspending the antidumping investigation on uranium from the Russian Federation in accordance with section 751(c)(5)(B) of the Tariff Act of 1930, as amended (“the Act”). See Extension of Time Limit for Sunset Review of the Agreement Suspending the Antidumping Investigation on Uranium from the Russian Federation, 70 FR 68397 (November 10, 2005) (“Notice of Extension”). The Department has now determined to conduct a full sunset review of this suspended investigation. See Memorandum from Sally C. Gannon to Ronald K. Lorentzen; “Sunset Review of Uranium from the Russian Federation: Adequacy of Domestic and Respondent Interested Party Responses to the Notice of Initiation and Decision to Conduct Full Sunset Review,” dated January 17, 2006.

Pursuant to section 351.218(f) of the Department's regulations, the Department normally will issue its preliminary results in a full sunset review not later that 110 days after the date of publication in the Federal Register of the notice of initiation. However, as determined in Notice of Extension, the sunset review of the agreement suspending the antidumping investigation on uranium from the Russian Federation is extraordinarily complicated and requires additional time for the Department to complete its analysis. Therefore, the Department is extending the deadline for the preliminary results in this proceeding by additional 30 days and, as a result, intends to issue the preliminary results of the full sunset review no later than February 17, 2006. The Department will issue its final results of the full sunset review on May 30, 2006, as specified in the Notice of Extension.

This notice is issued in accordance with sections 751(c)(5)(B) and (C)(v) of the Act.

Dated: January 17, 2006.
Ronald K. Lorentzen,
DirectorOffice of Policy.

[FR Doc. E6-825 Filed 1-23-06; 8:45 am]

BILLING CODE 3510-DS-S